DEPARTMENT OF TRANSPORTATION

Federal Aviation Administration

14 CFR Part 39

[Docket No. FAA-2024-0228; Project Identifier MCAI-2022-00599-T]

RIN 2120-AA64

Airworthiness Directives; Bombardier, Inc., Airplanes

AGENCY: Federal Aviation Administration (FAA), DOT.

ACTION: Notice of proposed rulemaking (NPRM).

SUMMARY: The FAA proposes to adopt a new airworthiness directive (AD) for certain Bombardier, Inc., Model BD-700-1A10 and BD-700-1A11 airplanes. This proposed AD was prompted by a determination that new or more restrictive airworthiness limitations for certain brake accumulators are necessary. This proposed AD would require revising the existing maintenance or inspection program, as applicable, to incorporate new or more restrictive airworthiness limitations. This proposed AD would also require determining the accumulated landings on the affected brake accumulators. The FAA is proposing this AD to address the unsafe condition on these products.

DATES: The FAA must receive comments on this proposed AD by April 18, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0228; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact Bombardier Business Aircraft Customer Response Center, 400 Côte-Vertu Road West, Dorval, Québec H4S 1Y9, Canada; telephone 514-855-2999; email ac.yul@aero.bombardier.com; website bombardier.com.

• You may view this service information at the FAA, Airworthiness Products Section, Operational Safety Branch, 2200 South 216th St., Des Moines, WA. For information on the availability of this material at the FAA, call 206-231-3195.

FOR FURTHER INFORMATION CONTACT: Mark Taylor, Aviation Safety Engineer, FAA, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2024-0228; Project Identifier MCAI-2022-00599-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Mark Taylor, Aviation Safety Engineer, FAA, 1600 Stewart Avenue, Suite 410, Westbury, NY 11590; telephone 516-228-7300; email 9-avs-nyaco-cos@faa.gov. Any commentary that the FAA receives which is not specifically designated as CBI will be placed in the public docket for this rulemaking.

Background

Transport Canada, which is the aviation authority for Canada, has issued Transport Canada AD CF-2022-25, dated May 3, 2022 (Transport Canada AD CF-2022-25) (also referred to after this as the MCAI), to correct an unsafe condition on certain Bombardier, Inc., Model BD-700-1A10 and BD-700-1A11 airplanes. The MCAI states that new or more restrictive airworthiness limitations (life limits) for certain brake accumulators have been developed, following in-service failures of brake accumulators on other types of airplanes with similar components. A brake accumulator surpassing a life limit could fail and result in loss of hydraulic pressure on the associated hydraulic system, which services the main and emergency/parking brakes on the main landing gear. The unsafe condition, if not addressed, could result in reduced or total loss of available braking and a possible runway excursion.

The FAA is proposing this AD to address the unsafe condition on these products. You may examine the MCAI in the AD docket at regulations.gov under Docket No. FAA-2024-0228.

Related Service Information Under 1 CFR Part 51

The FAA reviewed the following Bombardier service information. This service information specifies new or more restrictive airworthiness limitations for the No. 2 and No. 3 brake accumulators having certain part numbers. These documents are distinct since they apply to different airplane configurations.

• Section 5-10-11, “Life Limits (Systems),” of Part 2, “Airworthiness Limitations,” of the Bombardier Global 5000 Featuring Global Vision Flight Deck Time Limits/Maintenance Checks (TLMC), Publication No. GL 5000 GVFD TLMC, Revision 16, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global 5000 Featuring GVFD TLMC, Publication No. GL 5000 GVFD TLMC, use Document Identification No. GL 5000 GVFD TLMC.)

• Section 5-10-11, “Life Limits (Systems),” of Part 2, “Airworthiness Limitations,” of the Bombardier Global 5000 Time Limits/Maintenance Checks, Publication No. BD-700 TLMC, Revision 26, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global 5000 TLMC, Publication No. BD-700 TLMC, use Document Identification No. GL 5000 TLMC.)

• Section 5-10-11, “Life Limits (Systems),” of Part 2, “Airworthiness Limitations,” of the Bombardier Global 6000 Time Limits/Maintenance Checks, Publication No. GL 6000 TLMC, Revision 16, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global 6000 TLMC, Publication No. GL 6000 TLMC, use Document Identification No. GL 6000 TLMC.)

• Section 5-10-11, “Life Limits (Systems),” of Part 2, “Airworthiness Limitations,” of the Bombardier Global Express Time Limits/Maintenance Checks, Publication No. BD-700 TLMC, Revision 35, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global Express TLMC, Publication No. BD-700 TLMC, use Document Identification No. GL 700 TLMC.)

• Section 5-10-11, “Life Limits (Systems),” of Part 2, “Airworthiness Limitations,” of the Bombardier Global Express XRS Time Limits/Maintenance Checks, Publication No. BD-700 XRS TLMC, Revision 22, dated December 19, 2023, which includes Tasks 32-43-37-101, “Discard the No. 2 Brake Accumulator, Part No. GW415-1250-1” and 32-44-05-101, “Discard the No. 3 Brake Accumulator, Part No. GW415-1200-1/-3.” (For obtaining the tasks for Bombardier Global Express XRS TLMC, Publication No. BD-700 XRS TLMC, use Document Identification No. GL XRS TLMC.)

• Section 5-10-11, “Life Limits (Systems),” of Part 2, “Airworthiness Limitations,” of the Bombardier Global 5500 Time Limits/Maintenance Checks, Publication No. GL 5500 TLMC, Revision 5, dated December 19, 2023, which includes Task 32-44-05-101, “Discard the No. 3 Brake Accumulator, Part No. GW415-1200-3.” (For obtaining the task for Bombardier Global 5500 TLMC, Publication No. GL 5500 TLMC, use Document Identification No. GL 5500 TLMC.)

• Section 5-10-11, “Life Limits (Systems),” of Part 2, “Airworthiness Limitations,” of the Bombardier Global 6500 Time Limits/Maintenance Checks, Publication No. GL 6500 TLMC, Revision 5, dated December 19, 2023, which includes Task 32-44-05-101, “Discard the No. 3 Brake Accumulator, Part No. GW415-1200-3.” (For obtaining the task for Bombardier Global 6500 TLMC, Publication No. GL 6500 TLMC, use Document Identification No. GL 6500 TLMC.)

The FAA also reviewed the following service information, which specifies procedures for determining the accumulated landings on the brake accumulators. Knowing the accumulated landings is necessary to comply with the life limit. These documents are distinct because they apply to different airplane configurations.

• Bombardier Service Bulletin 700-1A11-32-030, Revision 02, dated March 2, 2023.

• Bombardier Service Bulletin 700-32-043, Revision 02, dated March 2, 2023.

• Bombardier Service Bulletin 700-32-5020, Revision 02, dated March 2, 2023.

• Bombardier Service Bulletin 700-32-5506, Revision 02, dated March 2, 2023.

• Bombardier Service Bulletin 700-32-6020, Revision 02, dated March 2, 2023.

• Bombardier Service Bulletin 700-32-6506, Revision 02, dated March 2, 2023.

This service information is reasonably available because the interested parties have access to it through their normal course of business or by the means identified in ADDRESSES.

FAA's Determination

This product has been approved by the aviation authority of another country, and is approved for operation in the United States. Pursuant to the FAA's bilateral agreement with this State of Design Authority, the FAA has been notified of the unsafe condition described in the MCAI and service information referenced above. The FAA is proposing this AD because the FAA evaluated all the relevant information and determined the unsafe condition described previously is likely to exist or develop on other products of the same type design.

Proposed Requirements of This NPRM

This proposed AD would require revising the existing maintenance or inspection program, as applicable, to incorporate new or more restrictive airworthiness limitations for certain brake accumulators. This proposed AD also would require determining the accumulated landings on the affected brake accumulators.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (k)(1) of this proposed AD.

Costs of Compliance

The FAA estimates that this AD, if adopted as proposed, would affect 117 airplanes of U.S. registry. The FAA estimates the following costs to comply with this proposed AD:

The FAA has determined that revising the maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Estimated Costs for Required Actions
Labor cost | Parts cost | Cost per product | Cost on U.S. operators
1.5 work-hours × $85 per hour = $128 | $0 | $128 | $14,976

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bombardier, Inc.: Docket No. FAA-2024-0228; Project Identifier MCAI-2022-00599-T.

(a) Comments Due Date

The FAA must receive comments on this airworthiness directive (AD) by April 18, 2024.

(b) Affected ADs

None.

(c) Applicability

This AD applies to Bombardier, Inc., Model BD-700-1A10 and BD-700-1A11 airplanes, serial numbers 9002 through 9998 inclusive, and 60001 through 60046 inclusive.

(d) Subject

Air Transport Association (ATA) of America Code 05, Time Limits/Maintenance Checks; 32, Landing Gear.

(e) Reason

This AD was prompted by a determination that new or more restrictive airworthiness limitations for certain brake accumulators are necessary. The FAA is issuing this AD to address brake accumulators that could surpass a life limit and fail, resulting in loss of hydraulic pressure on the associated hydraulic system, which services the main and emergency/parking brakes on the main landing gear. The unsafe condition, if not addressed, could result in reduced or total loss of available braking and a possible runway excursion.

(f) Compliance

Comply with this AD within the compliance times specified, unless already done.

(g) Maintenance or Inspection Program Revision

Within 90 days after the effective date of this AD, revise the existing maintenance or inspection program, as applicable, to incorporate the information in the tasks specified in table 1 to paragraph (g) of this AD of Section 5-10-11, “Life Limits (Systems),” of Part 2, “Airworthiness Limitations,” of the applicable Time Limits/Maintenance Checks (TLMC) Manual. The initial compliance time for doing the tasks is at the time specified in the tasks specified in table 1 to paragraph (g) of this AD, or within 90 days after the effective date of this AD, whichever occurs later.

BILLING CODE 4910-13-P

Table 1 to Paragraph (g)—Applicable TLMC Manuals and Service Bulletins

BILLING CODE 4910-13-C

(h) Determination of Accumulated Landings

Within 90 days after the effective date of this AD, determine the accumulated landings on the installed No. 2 and No. 3 brake accumulators in accordance with Paragraph 2.A. of the Accomplishment Instructions of the applicable service bulletin specified in table 1 to paragraph (g) of this AD.

(i) No Alternative Actions or Intervals

After the existing maintenance or inspection program has been revised as required by paragraph (g) of this AD, no alternative actions (e.g., inspections) or intervals may be used unless the actions and intervals are approved as an alternative method of compliance (AMOC) in accordance with the procedures specified in paragraph (k)(1) of this AD.

(j) Credit for Previous Actions

This paragraph provides credit for actions required by paragraph (h) of this AD, if those actions were performed before the effective date of this AD using the applicable service information specified in paragraphs (j)(1) through (12) of this AD.

(1) Bombardier Service Bulletin 700-1A11-32-030, dated October 27, 2021.

(2) Bombardier Service Bulletin 700-1A11-32-030, Revision 01, dated March 8, 2022.

(3) Bombardier Service Bulletin 700-32-043, dated October 27, 2021.

(4) Bombardier Service Bulletin 700-32-043, Revision 01, dated March 8, 2022.

(5) Bombardier Service Bulletin 700-32-5020, dated October 27, 2021.

(6) Bombardier Service Bulletin 700-32-5020, Revision 01, dated March 8, 2022.

(7) Bombardier Service Bulletin 700-32-5506, dated October 27, 2021.

(8) Bombardier Service Bulletin 700-32-5506, Revision 01, dated March 8, 2022.

(9) Bombardier Service Bulletin 700-32-6020, dated October 27, 2021.

(10) Bombardier Service Bulletin 700-32-6020, Revision 01, dated March 8, 2022.

(11) Bombardier Service Bulletin 700-32-6506, dated October 27, 2021.

(12) Bombardier Service Bulletin 700-32-6506, Revision 01, dated March 8, 2022.

(k) Other FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (l)(2) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(l) Additional Information

(1) Refer to Transport Canada AD CF-2022-25, dated May 3, 2022, or related information. This Transport Canada AD may be found in the AD docket at regulations.gov under Docket No. FAA-2024-0228.

(2) For more information about this AD, contact Mark Taylor, Aviation Safety Engineer, FAA, 1600 Stewart Avenue, Suite 410, Westbury, NY 11590; telephone 516-228-7300; email 9-avs-nyaco-cos@faa.gov.

(3) Service information identified in this AD that is not incorporated by reference is available at the addresses specified in paragraphs (m)(3) and (4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 700-1A11-32-030, Revision 02, dated March 2, 2023.

(ii) Bombardier Service Bulletin 700-32-043, Revision 02, dated March 2, 2023.

(iii) Bombardier Service Bulletin 700-32-5020, Revision 02, dated March 2, 2023.

(iv) Bombardier Service Bulletin 700-32-5506, Revision 02, dated March 2, 2023.

(v) Bombardier Service Bulletin 700-32-6020, Revision 02, dated March 2, 2023.

(vi) Bombardier Service Bulletin 700-32-6506, Revision 02, dated March 2, 2023.

(vii) Section 5-10-11, “Life Limits (Systems),” of Part 2, “Airworthiness Limitations,” of the Bombardier Global 5000 Featuring Global Vision Flight Deck Time Limits/Maintenance Checks (TLMC), Publication No. GL 5000 GVFD TLMC, Revision 16, dated December 19, 2023.

Note 1 to paragraph (m)(2)(vii): For obtaining the tasks for Bombardier Global 5000 Featuring GVFD TLMC, Publication No. GL 5000 GVFD TLMC, use Document Identification No. GL 5000 GVFD TLMC.

(viii) Section 5-10-11, “Life Limits (Systems),” of Part 2, “Airworthiness Limitations,” of the Bombardier Global 5000 Time Limits/Maintenance Checks, Publication No. BD-700 TLMC, Revision 26, dated December 19, 2023.

Note 2 to paragraph (m)(2)(viii): For obtaining the tasks for Bombardier Global 5000 TLMC, Publication No. BD-700 TLMC, use Document Identification No. GL 5000 TLMC.

(ix) Section 5-10-11, “Life Limits (Systems),” of Part 2, “Airworthiness Limitations,” of the Bombardier Global 6000 Time Limits/Maintenance Checks, Publication No. GL 6000 TLMC, Revision 16, dated December 19, 2023.

Note 3 to paragraph (m)(2)(ix): For obtaining the tasks for Bombardier Global 6000 TLMC, Publication No. GL 6000 TLMC, use Document Identification No. GL 6000 TLMC.

(x) Section 5-10-11, “Life Limits (Systems),” of Part 2, “Airworthiness Limitations,” of the Bombardier Global Express Time Limits/Maintenance Checks, Publication No. BD-700 TLMC, Revision 35, dated December 19, 2023.

Note 4 to paragraph (m)(2)(x): For obtaining the tasks for Bombardier Global Express TLMC, Publication No. BD-700 TLMC, use Document Identification No. GL 700 TLMC.

(xi) Section 5-10-11, “Life Limits (Systems),” of Part 2, “Airworthiness Limitations,” of the Bombardier Global Express XRS Time Limits/Maintenance Checks, Publication No. BD-700 XRS TLMC, Revision 22, dated December 19, 2023.

Note 5 to paragraph (m)(2)(xi): For obtaining the tasks for Bombardier Global Express XRS TLMC, Publication No. BD-700 XRS TLMC, use Document Identification No. GL XRS TLMC.

(xii) Section 5-10-11, “Life Limits (Systems),” of Part 2, “Airworthiness Limitations,” of the Bombardier Global 5500 Time Limits/Maintenance Checks, Publication No. GL 5500 TLMC, Revision 5, dated December 19, 2023.

Note 6 to paragraph (m)(2)(xii): For obtaining the task for Bombardier Global 5500 TLMC, Publication No. GL 5500 TLMC, use Document Identification No. GL 5500 TLMC.

(xiii) Section 5-10-11, “Life Limits (Systems),” of Part 2, “Airworthiness Limitations,” of the Bombardier Global 6500 Time Limits/Maintenance Checks, Publication No. GL 6500 TLMC, Revision 5, dated December 19, 2023.

Note 7 to paragraph (m)(2)(xiii): For obtaining the task for Bombardier Global 6500 TLMC, Publication No. GL 6500 TLMC, use Document Identification No. GL 6500 TLMC.

(3) For service information identified in this AD, contact Bombardier Business Aircraft Customer Response Center, 400 Côte-Vertu Road West, Dorval, Québec H4S 1Y9, Canada; telephone 514-855-2999; email ac.yul@aero.bombardier.com; website bombardier.com.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on February 8, 2024.
Victor Wicklund,
Deputy Director, Compliance & Airworthiness Division, Aircraft Certification Service.

[FR Doc. 2024-03008 Filed 3-1-24; 8:45 am]

BILLING CODE 4910-13-P